DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Uniform Billing Form (OWCP-92). A copy of the proposed information collection request can be obtained by contacting the office listed below in the addressee section of this Notice.

DATES: Written comments must be submitted to the office listed in the addressee section below on or before September 5, 2003.

ADDRESSES: Ms. Hazel M. Bell, U.S. Department of Labor, 200 Constitution Ave., NW., Room S-3201, Washington, DC 20210, telephone (202) 693-0418, fax (202) 693-1451, Email hbell@fenix2.dol-esa.gov. Please use only one method of transmission for comments (mail, fax, or Email).

SUPPLEMENTARY INFORMATION:

I. Background

The Office of Workers' Compensation Programs (OWCP) administers the Federal Employees' Compensation Act (FECA) 5 U.S.C. 8101, et seq., the Black Lung Benefits Act (BLBA) 30 U.S.C. 901 et seq., and the Energy Employees Occupational Illness Compensation Program Act of 2000 (EEOICPA), 42 U.S.C. 7384 et seq. These Acts provide, in addition to compensation for employment-related injury and/or disability, payments to provider institutions for certain non-professional medical treatment and services related to the injury or disability. The Uniform Billing Form (OWCP-92) consists of the industry standard billing form (UB-92), which has been approved by the American Hospital Association, the Centers for Medicare and Medicaid Services, and the Civilian Health and Medical Program of the Uniformed Services (CHAMPUS), by various other government health care programs, and the private sector, for the purpose of payment to institutional providers of medical services. The OWCP-92 also includes detailed instructions developed by OWCP that provide the information necessary to providers who file bills for services that may be payable under FECA, BLBA and the EEOICPA. This information collection is currently approved for use through December 31, 2003.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval for the extension of this information collection in order to carry out its responsibility to provide payment covered medical services to injured employees who are covered under the FECA, BLBA and the EEOICPA.

Type of Review: Extension.

Agency: Employment Standards Administration.

Title: Uniform Billing Form.

OMB Number: 1215-0176.

Agency Number: OWCP-92.

Affected Public: Individual or households; Business or other for-profit; Not-for-profit institutions.

Total Respondents: 57,679.

Total Responses: 230,716.

Time per Response: 7 minutes.

Frequency: On Occassion.

Estimated Total Burden Hours: 26,925.

Total Burden Cost (capital/startup): $0.

Total Burden Cost (operating/maintenance): $0.

Comments submitted in response to this notice will be summarized and/or included in the request for Office of Management and Budget approval of the information collection request; they will also become a matter of public record.

Dated: June 30, 2003.
Bruce Bohanon,
Chief, Branch of Management Review and Internal Control, Division of Financial Management, Office of Management, Administration and Planning, Employment Standards Administration.

[FR Doc. 03-17056 Filed 7-3-03; 8:45 am]

BILLING CODE 4510-CH-P